DEPARTMENT OF THE INTERIOR

Bureau of Land Management

[LLCON06000-L16100000-DQ0000 16X]

Notice of Resource Advisory Council Meetings for the Dominguez-Escalante National Conserv ation Area Advisory Council

AGENCY: Bureau of Land Management, Interior.

ACTION: Notice of Public Meetings.

SUMMARY: In accordance with the Federal Land Policy and Management Act of 1976 and the Federal Advisory Committee Act of 1972, the U.S. Department of the Interior, Bureau of Land Management (BLM) Dominguez-Escalante National Conservation Area (NCA) Advisory Council (Council) will meet as indicated below.

DATES: The Council will meet July 13, 2016, and July 27, 2016. Any adjustments to these meetings will be advertised on the Dominguez-Escalante NCA Resource Management Plan (RMP) Web site: http://www.blm.gov/co/st/en/nca/denca/denca_rmp.html.

ADDRESSES: The July 13 meeting will be held at the Mesa County Old Courthouse, 544 Rood Ave. Grand Junction, CO 81501. The July 27 meeting will be held at the Bill Heddles Recreation Center, 530 Gunnison River Drive, Delta, CO 81416.

FOR FURTHER INFORMATION CONTACT: Collin Ewing, Dominguez-Escalante NCA Advisory Council Designated Federal Official, 2815 H Road, Grand Junction, CO 81506. Phone: (970) 244-3049. Email: cewing@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 10-member Council advises the Secretary of the Interior, through the BLM, on a variety of planning and management issues associated with the RMP process for the Dominguez-Escalante NCA and Dominguez Canyon Wilderness.

Topics of discussion during the meetings may include presentations from BLM staff on management actions contained in the RMP, particularly public comments on alternatives in the Draft RMP.

These meetings are open to the public. The public may present written comments to the Council. Time will be allocated at the middle and end of each meeting to hear public comments. Depending on the number of persons wishing to comment and time available, the time for individual oral comments may be limited at the discretion of the chair.

Ruth Welch,
BLM Colorado State Director.

[FR Doc. 2016-13658 Filed 6-8-16; 8:45 am]

BILLING CODE 4310-JB-P